DEPARTMENT OF DEFENSE

Office of the Secretary

[Docket ID DoD-2013-OS-0201]

Privacy Act of 1974; System of Records

AGENCY: Office of the Secretary, DoD.

ACTION: Notice to delete a System of Records.

SUMMARY: The Office of the Secretary of Defense is deleting a systems of record notice from its existing inventory of record systems subject to the Privacy Act of 1974, as amended.

DATES: This proposed action will be effective without further notice on November 1, 2013 unless comments are received which result in a contrary determination. Comments will be accepted on or before October 31, 2013.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

ADDRESSES: Send comments to the Privacy Act Officer, Office of Freedom of Information, Washington Headquarters Services, 1155 Defense Pentagon, Washington, DC 20301-1155.

FOR FURTHER INFORMATION CONTACT: Mrs. Cindy Allard at (571) 372-0461.

SUPPLEMENTARY INFORMATION: The Office of the Secretary of Defense systems of records notices subject to the Privacy Act of 1974 (5 U.S.C. 552a), as amended, have been published in the Federal Register and are available from the address above or from the Defense Privacy and Civil Liberties Office Web site at http://dpclo.defense.gov/privacy/SORNs/component/osd/index.html. The Office of the Secretary of Defense proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Dated: September 25, 2013.
Aaron Siegel,
Alternate OSD Federal Register Liaison Officer, Department of Defense.

Deletion:

DHRA 03

PERSEREC Export Violations Database (November 15, 2002, 67 FR 69205).

Reason:

The NARA approved records retention is TEMPORARY. Destroy 2 years after completion of final action (GRS 18, Item 24). The final cases were closed in the late 1990s and those records were subsequently destroyed. Since all records have properly been destroyed, there is no longer a need to maintain this system of records notice. Therefore, DHRA 03, PERSEREC Export Violations Database can be deleted.

[FR Doc. 2013-23796 Filed 9-30-13; 8:45 am]

BILLING CODE 5001-06-P